DEPARTMENT OF THE INTERIOR

National Park Service

36 CFR Part 7

[NPS-GOGA-19691; PX.XGOGA1604.00.1]

RIN 1024-AE16

Special Regulations, Areas of the National Park Service, Golden Gate National Recreation Area, Dog Management

AGENCY: National Park Service, Interior.

ACTION: Proposed rule.

SUMMARY: The National Park Service proposes to amend its special regulations for Golden Gate National Recreation Area regarding dog walking. The rule would apply to 22 locations within the park and would designate areas within these locations for on-leash and regulated (i.e., voice and sight control) off-leash dog walking. Areas in these 22 locations that are not designated as open to dogs would be closed to dogs, except for service animals in accordance with National Park Service regulations. The rule would modify and, in some circumstances, relax the National Park System-wide pet regulations for these 22 locations. To the extent not modified by this rule, dog walking in all NPS-managed areas within the park would continue to be regulated under National Park System-wide pet regulations.

DATES: Comments must be received by 11:59 EST on April 25, 2016.

ADDRESSES: You may submit comments, identified by the Regulation Identifier Number (RIN) 1024-AE16, by any of the following methods:

• Federal eRulemaking Portal: www.regulations.gov. Follow the instructions for submitting comments after searching for RIN 1024-AE16.

• Mail or hand deliver to: General Superintendent, Golden Gate National Recreation Area, Attn: Dog Management Proposed Rule, Fort Mason, Building 201, San Francisco, CA 94123.

• Informational Meetings: The NPS will schedule three (3) informational meetings on this proposed dog management rule during the 60-day public comment period, and provide public notice of these meetings in regional newspapers and on the park Web site at www.nps.gov/goga/getinvolved/pub_mting_prop_rule.htm. Information on specific locations, times, and dates of these informational meetings will be posted on the same Web site and sent to those on the park's Public Affairs Office mailing list.

Please see the Public Participation section under SUPPLEMENTARY INFORMATION for more information.

FOR FURTHER INFORMATION CONTACT: Golden Gate National Recreation Area, Attn: Public Affairs Office (Alexandra Picavet), Fort Mason, Building 201, San Francisco, CA, 94123. Phone: (415) 561-4728. Email: goga_dogmtg@nps.gov.

SUPPLEMENTARY INFORMATION:

Public Participation

It is the policy of the Department of the Interior, whenever practicable, to afford the public an opportunity to participate in the rulemaking process. The NPS initiated the rulemaking process in 2002 and then convened a Negotiated Rulemaking Committee in 2006. The committee, which was comprised of representatives of multiple stakeholder groups, met over the course of sixteen months in an effort to reach consensus on a dog walking rule for GGNRA. Although the Negotiated Rulemaking Committee was unable to reach consensus on all issues, it did reach consensus on some issues. These limited areas of consensus and input gained from committee discussions were carried forward for analysis as the park developed the range of alternatives in the draft Plan/SEIS.

In addition to that effort, and in accordance with the policy of the Department of the Interior to afford the public an opportunity to participate in the rulemaking process, interested persons may submit written comments regarding this proposed rule by one of the methods listed in the ADDRESSES section above

Please note that all submissions received must include the agency name and (RIN) 1024-AE16 for this rulemaking. Comments received will be posted without change to www.regulations.gov, including any personal information provided. If you commented on the Draft Dog Management Plan/Supplemental Environmental Impact Statement (draft Plan/SEIS), your comment has been considered in drafting the proposed rule. Comments submitted during this comment period should focus on this proposed rule, not the draft Plan/SEIS. For example, the National Park Service invites comments on the definitions contained in the proposed rule and the clarity of the descriptions of areas open to dog walking; the rules and restrictions that apply to dog walking and to Voice and Sight Control areas; the rules and restrictions that apply to the permitting program for walking four to six dogs; and whether commercial dog walking should be allowed under the proposed rule. Comments on the draft Plan/SEIS will be considered untimely because the comment period on the draft Plan/SEIS has closed. Comments will not be accepted by fax, email, or in any way other than those specified above, and bulk comments in any format (hard copy or electronic) submitted on behalf of others will not be considered. Organizations should direct their members to submit comments individually using one of the methods described above.

Before including your address, phone number, email address, or other personal identifying information in your comment, you should be aware that your entire comment—including your personal identifying information—may be made publicly available at any time. While you can ask us in your comment to withhold your personal identifying information from public review, we cannot guarantee that we will be able to do so. Please note that submissions merely stating support for or opposition to the action under consideration without providing supporting information, although noted, will not be considered in making a determination. Please make your comments as specific as possible and explain the basis for them.

Background

Authority and Jurisdiction

The National Park Service (NPS) manages the Golden Gate National Recreation Area (GGNRA or park) as a unit of the National Park System. Units of the National Park System are managed under the statutes commonly known as the National Park Service Organic Act of 1916, the General Authorities Act of 1970, and the Redwood Amendments of 1978 which amended the General Authorities Act (codified at 54 U.S.C. 100101 et. seq.). As explained in NPS Management Policies 2006, these interrelated authorities express the fundamental purpose of the National Park System which is to conserve park resources and values and to provide for visitor enjoyment of these resources and values. The mandate to protect park resources and values is complemented by a statutory prohibition on the impairment of park resources and values. To avoid impairment, park managers are directed to seek ways to avoid and minimize adverse impacts on park resources and values to the greatest extent practicable. Where there are conflicts between conserving resources and values and providing for enjoyment of them, conservation is to be the predominant goal. To aid in the regulation of visitor activities within units of the National Park System, 54 U.S.C. 100751(a) authorizes the Secretary of the Interior, acting through the NPS, to “prescribe such regulations as the Secretary considers necessary or proper for the use and management of System units.”

An additional source of legal authority for the management of GGNRA derives from the park's enabling legislation, which was enacted in 1972 when Congress created the GGNRA. The enabling legislation states that the GGNRA was established “to preserve for public use and enjoyment certain areas of Marin and San Francisco Counties, California, possessing outstanding natural, historic, scenic, and recreational values, and in order to provide for the maintenance of needed recreational open space necessary to urban environment and planning . . . .” (16 U.S.C. 460bb). The enabling act directs the Secretary of the Interior, acting through the NPS, to “utilize the resources in a manner which will provide for recreation and educational opportunities consistent with sound principles of land use planning and management,” and to “preserve the recreation area, as far as possible, in its natural setting, and protect it from development and uses which would destroy the scenic beauty and natural character of the area.” (16 U.S.C. 460bb).

Description and Significance of Golden Gate National Recreation Area

GGNRA is one of the most highly-visited units of the National Park System, with over 17.7 million visitors per year. The park is comprised of numerous federally-managed sites interspersed with lands managed by city, county, state, and regional agencies as well as private lands. GGNRA-managed lands include 29.2 miles of bay and ocean shoreline within three counties of the San Francisco Bay Area: San Francisco, Marin, and San Mateo. The park contains significant historical and natural resources: 711 historic structures, including five National Historic Landmarks and 15 National Register properties; 47 registered archeological sites; nine cultural landscapes, including five lighthouses; 3,968 plant and animal species, including 37 federally-listed threatened and endangered species (the 3rd largest number of federally listed species in the National Park System); and 19 separate ecosystems in seven distinct watersheds. Many of these species were listed as threatened or endangered well after the park's establishment.

Since GGNRA was established in 1972, the amount of land managed by the NPS has more than doubled as a result of acquisitions and boundary expansions. The park boundary now encompasses approximately 80,000 acres in San Francisco, Marin, and San Mateo counties. Of that total acreage, the NPS owns and manages approximately 18,500 acres.

Dog Walking in Golden Gate National Recreation Area

Dog walking in some areas of GGNRA began prior to the establishment of the park, when dog walking, including off-leash dog walking, occurred informally at sites under the jurisdiction of other federal, state, or local entities or when the lands were privately owned. In the park's early years, those practices continued largely uninterrupted, despite the existence of a National Park System-wide regulation that prohibited off-leash dog walking and required all pets to be on-leash or under physical restrictive control (36 CFR 2.8, promulgated in 1966) or crated, caged, restrained on-leash, or otherwise physically controlled at all times (36 CFR 2.15, promulgated in 1983).

In 1978, the GGNRA Citizens' Advisory Commission, which was established under the park's enabling legislation to coordinate public involvement for the park, considered and proposed a pet policy following input from park staff and the public. The policy provided general guidance on dog walking and recommended certain locations in the park for on-leash and off-leash, or “voice control,” dog walking, and some locations that would exclude dogs. In 1979, the Commission recommended the pet policy to the superintendent for adoption as a GGNRA-specific policy (later known as the 1979 Pet Policy). Although the NPS never promulgated this policy as a special regulation, for more than 20 years the park operated under it despite the National Park System-wide regulation prohibiting off-leash dog walking.

Since 1979, the San Francisco Bay Area population and overall use of GGNRA lands have increased, as have the number of dog walkers in the park based on park staff observation, partly due to the recent growth of the commercial dog walking industry. At the same time, the number of dog-related conflicts between park users with and without dogs has risen, including dog bites and attacks, as has the concern about the effect of uncontrolled dog behaviors on park visitor experiences. Resource concerns have also increased since 1979 as park staff gained greater knowledge of park resources and as a result of the listing of several species with habitat in areas used by dog walkers as threatened, endangered, or special-status species. The NPS has also identified other native plant and animal species that require protection under the NPS's broader conservation mandate.

A resource protection conflict between dog use and a listed species occurred in the late 1990s when the NPS sought to close 12 acres at Fort Funston to dogs in order to protect bank swallows (Riparia riparia), a bird species listed as threatened by the State of California in 1989. Fort Funston had been designated as an off-leash “voice control” area under the 1979 Pet Policy. Dog walking groups challenged the closure in U.S. District Court. (Fort Funston Dog Walkers v. Babbitt, 96 F. Supp. 2d 1021 (N.D. Cal. 2000).) Following a determination that the NPS had likely violated procedural rules in adopting the closure, the NPS undertook a subsequent public process and was ultimately allowed to erect fences closing the 12-acre area to dogs.

Additional legal challenges to the NPS's management of dog walking occurred in the early 2000s. In January 2002, the NPS issued a Federal Register notice explaining that the 1979 Pet Policy was in conflict with the National Park System-wide regulation that requires dogs to be leashed (36 CFR 2.15) and that the NPS was therefore rescinding the 1979 Pet Policy. (67 FR 1424 at 1425 (Jan. 11, 2002).) The NPS began enforcing the leash requirement contained in 36 CFR 2.15, including in areas formerly open to off-leash dog walking under the 1979 Pet Policy. In 2004, several dog walkers who had been cited for failing to leash their dogs challenged the NPS decision to rescind the 1979 Pet Policy. The U.S. District Court for the Northern District of California determined that the NPS did not follow proper procedures in issuing the 2002 Federal Register notice and that public notice and comment was required before adopting new restrictions on dog use that significantly changed public use patterns or were highly controversial. (United States v. Barley, 405 F. Supp. 2d 1121 (N.D. Cal. 2005.) As a result of that decision, the 1979 Pet Policy has remained in place pending the completion of this notice and comment rulemaking process, except for portions of Ocean Beach and Crissy Field (currently known as the Snowy Plover Protection Area and Wildlife Protection Area respectively) where in 2008 the NPS adopted a special regulation to restrict off-leash dog walking to protect sensitive wildlife. (36 CFR 7.97(d).) The proposed rule would replace the special regulation at 36 CFR 7.97(d) by permanently closing these areas to dogs. The closure of these areas would be implemented by a provision of the proposed rule that designates as closed any areas at Crissy Field and Ocean Beach not specifically opened to dogs. Maps identifying the areas closed to dogs would be made available to the public. Upon its effective date, the final rule would terminate and replace the 1979 Pet Policy within GGNRA.

Another recent modification to dog walking in GGNRA is reflected in an interim public use restriction and permit requirement that NPS adopted in June 2014 for commercial dog walkers. Commercial dog walkers who use GGNRA lands in Marin and San Francisco counties are now limited to no more than 6 dogs at any one time, and they must obtain a permit from NPS when walking between four (4) and six (6) dogs at any one time. This interim restriction was adopted by GGNRA following limits placed on dog walkers in surrounding jurisdictions. [See link: http://www.nps.gov/goga/learn/management/upload/2014_Superintendent-s-CompendiumV2_access.pdf]. If the proposed rule is adopted by NPS, the interim permit requirement would be superseded by the final GGNRA dog walking special regulation.

Today, many parts of the San Francisco Bay Area are highly urbanized, and some city, county, and state lands in the San Francisco Bay Area have either limited areas available for dog walking or prohibit dog walking on their lands altogether. Some residents of San Francisco, Marin, and San Mateo counties view GGNRA lands as their backyards. Some local residents with dogs find park lands convenient and have come to expect them to be available for dog walking. These same GGNRA lands, especially the coastal sites, are also popular with a variety of park visitors who seek to experience the national park free from dogs. Within the overarching mandate to protect park resources and values, the proposed rule addresses the interests of these diverse users by designating areas that are appropriate for on- or off-leash dog walking, by adopting restrictions on dog use in other areas such as limitations on the number of dogs, and by closing areas that are not appropriate for dog use.

Dog Management Planning and Environmental Impact Analysis

In 2002, the NPS issued an Advance Notice of Proposed Rulemaking asking for public input on whether the NPS should develop a new regulation for dog walking in GGNRA. Following review of public comments, the NPS initiated a dog management planning process under the National Environmental Policy Act of 1969 (NEPA), together with a Negotiated Rulemaking process in an effort to develop a consensus-based proposed rule. After meeting for a 16 month period, the Negotiated Rulemaking Committee, comprised of representative stakeholders, was unable to reach consensus on a proposed rule and elected not to extend its charter. The NPS decided to continue the dog management planning process under NEPA and its associated public involvement process and through the traditional notice and comment rulemaking process.

The NPS released the draft Dog Management Plan/Environmental Impact Statement for public comment in 2011.The resulting public comments, and the addition of a major new tract of land to the park (Rancho Corral de Tierra), prompted the NPS to issue an updated draft plan and supplemental EIS (draft Plan/SEIS). The draft Plan/SEIS was open for public comment from September 6, 2013 until February 18, 2014. The draft Plan/SEIS is available online at http://parkplanning.nps.gov/documentsList.cfm?projectID=11759 by clicking on the link entitled “Draft Dog Management Plan/Supplemental Environmental Impact Statement.”

Proposed Rule

Relationship To Draft Plan/SEIS

The proposed rule is based on the preferred alternative (Alternative F) described in the draft Plan/SEIS, which has been modified slightly based on public comment and further analyses. In general, the principal changes relate to conditions for walking four to six dogs under an NPS permit, the adjustment of two Voice and Sight Control Areas (Crissy Airfield and upper Fort Funston), the addition of four new trail segments for on-leash dog walking (Rancho Corral de Tierra), and the elimination of one (Fort Baker), clarifying definitions, and additional considerations for the Monitoring and Management Program. These specific changes are incorporated in this proposed rule and will be included in the Preferred Alternative in the Final Dog Management Plan/Environmental Impact Statement. The proposed rule uses updated and corrected trail and road names that are different than the names used in the draft/SEIS. To reduce confusion, the changes to trail and road names are posted on the park Web site at http://www.nps.gov/goga/learn/management/completed-plans-and-projects.htm and are identified in the table at the end of the SUPPLEMENTARY INFORMATION section of this document.

General Summary

The 22 locations covered by the proposed rule are as follows by County:

• Marin County: Stinson Beach, Muir Beach, Homestead Valley, Oakwood Valley, Alta Trail, Marin Headlands/Rodeo Beach and Vicinity, Marin Headlands/Rodeo Valley, and Fort Baker.

• San Francisco County: Fort Mason, Crissy Field, Fort Point National Historic Site, Baker Beach, Lands End, Fort Miley, Sutro Heights Park, Ocean Beach, and Fort Funston.

• San Mateo County: Mori Point, Milagra Ridge, Sweeney Ridge, Cattle Hill (if NPS acquires management responsibility for this area), and Rancho Corral de Tierra.

Within the locations listed above, the proposed rule would designate specific areas where dogs would be required to stay on leash, where dogs may be off-leash but only when under immediate voice and sight control, and where dog walking would be prohibited. Maps of trails, beaches, and other areas open to dog walking would be available at park visitor centers and on the park Web site once a final rule is issued. Maps for this proposed rule are available online at www.regulations.gov (click on “Open Docket Folder” after searching for RIN 1024-AE16) and on the park Web site at http://www.nps.gov/goga/getinvolved/prop-rule-maps.htm. Due to the small scale of these maps and the large areas covered, one overview map (#1) is provided along with nineteen (19) other maps (from maps #2 to #20) to cover the twenty-two (22) park locations addressed in this proposed rule (with 3 maps covering 2 locations each); these maps are visual aids to illustrate the detailed area descriptions provided in the rule, which are controlling.

The proposed rule provides for on-leash and off-leash dog walking opportunities within these locations in a manner that is consistent with NPS's legal mandates to conserve park resources and values and provide for recreational and educational opportunities. The rule is consistent with sound principles of land use planning and management, and preserves the park's natural setting and protects it from uses that could destroy its scenic beauty and natural character. Limitations and restrictions on dog walking in these locations are designed to avoid or minimize adverse impacts on park resources, promote health and safety, reduce conflicts between diverse user groups, and address management responsibilities.

Under 36 CFR 1.2(c), special regulations for an NPS unit may modify or relax regulations in 36 CFR part 2 that apply to the entire National Park System. The proposed rule would modify and, in some circumstances, relax the National Park System-wide pet regulations at 36 CFR 2.15 for the locations listed above. To the extent not modified or relaxed by this rule, the National Park System-wide pet regulations at 36 CFR 2.15 would continue to apply to pets, including dogs, within GGNRA. Within GGNRA's 22 park locations identified in this rule, the following subsections of 36 CFR 2.15 would still apply: subsections (a)(1), (a)(4), (c), (d), (e) and (f).

The proposed rule would authorize areas open to on-leash or off-leash dog walking to be closed or subject to additional restrictions, on a temporary or permanent basis, for the protection or restoration of park resources, special events, implementation of management responsibilities, health and safety, infrastructure projects, visitor use conflicts, or other factors within the discretion of the superintendent.

There are two scenarios under which dog walking opportunities may be expanded under the proposed rule. First, if the state and local entities with land management authority for Sharp Park Beach in San Mateo County (see Mori Point map #17) decide to change dog walking uses at Sharp Park Beach, a 0.2 acre area in the southeast corner of the beach that is administered by the NPS may also be so designated by the superintendent. Second, if the park adds new trails to the park's trail system in any of the 22 locations covered by the rule, the superintendent may designate such trails as open to on-leash dog walking. The NPS would conduct the appropriate level of NEPA compliance prior to designating any new trails for on-leash dog walking and provide public notice of the corresponding new trail uses under one or more of the methods listed in 36 CFR 1.7(a) before any such uses would be implemented.

For GGNRA locations not addressed by this rule, including lands in the northern district of the park managed by the Point Reyes National Seashore, 36 CFR 2.15 would still apply.

The proposed rule also would not change the rules relating to dog walking on lands, known as Area B, managed by the Presidio Trust. Dog walking on lands managed by the Presidio Trust is managed in accordance with the Trust's regulations in 36 CFR part 1001 and an Interim Final Rule regarding commercial dog walking that went into effect on October 1, 2014. The Interim Final Rule requires commercial dog walkers with four to six dogs to obtain and comply with an NPS permit when walking dogs in Area B and prohibits commercial dog walkers from having more than six dogs at one time. (See: http://www.gpo.gov/fdsys/pkg/FR-2014-08-19/pdf/2014-19514.pdf). The Trust's Interim Final Rule will remain in place until the Trust issues a Final Rule.

Designated Dog Walking Areas and Permit Requirement

The following elements would apply to all of the locations within GGNRA that would be governed by the proposed rule:

• Dog walking would be prohibited except in the specific areas or on the trails identified in the proposed rule. Dog walking would not be allowed off-trail, in campgrounds, on designated swimming beaches, on informal (i.e. “social”) trails, in public buildings, or in any area not designated by the proposed rule as open to dogs.

• Dog walking on-leash would be allowed in parking lots, on sidewalks, and on shoulders of paved, public roads.

• All dogs would be required to have a current rabies vaccination, and dog walkers would be responsible for providing evidence of that for any dog in their care when walking in the park.

• All dogs would be required to be licensed and tagged in accordance with applicable ordinances of the county where the dog's owner resides.

• Each dog walker would be required to have the dog owner's name, home address, and phone number available for each dog walked and must provide this information upon request to any person authorized to enforce the regulation.

• No more than three dogs may be walked per dog walker at one time without a permit. All dog walkers walking between four and six dogs must obtain an NPS permit. (An example of the 2015 interim permit for commercial dog walkers is available at: http://www.nps.gov/goga/planyourvisit/loader.cfm?csModule=security/getfile&PageID=867836).

• No more than six dogs may be walked per dog walker at any one time.

• Commercial dog walking is allowed in areas open to dog walking according to the rules in this proposed rule for each park location.

• Service animals accompanying a person with a disability would be allowed in the park in accordance with National Park System-wide regulations.

• Informal trails are not official trails and therefore are not listed in the proposed rule and would be closed to dog walking.

• Dog walking areas in each location would be delineated and marked. Standard landscape design elements (e.g. vegetative barriers, fencing, signage, landscape contours, paths, etc.) may be installed to aid differentiation of dog walking areas provided that wildlife movement is protected. Landscape design elements may also be utilized to protect restoration areas, delineate areas that require closure or separation for safety purposes, to reduce user conflicts, or to address other dog management needs.

• Dog walkers may not enter the park with more than six dogs at one time. In addition, dog walkers entering the park with four or more dogs may not circumvent the permit requirement by walking fewer than four dogs at one time.

○ Permits would specify the areas, times and conditions under which this activity may occur.

○ Display of the NPS-issued, permit identification by the permitted dog walker would be required at all times when the permittee is walking four to six dogs in GGNRA.

○ All permits would require proof of liability insurance and approved dog-handling training through existing regionally or nationally-accredited training courses offered by organizations approved by the local county jurisdiction in which the activity will occur, and as accepted by the superintendent. A list of such courses can be obtained through the local county jurisdiction for that county in which the dog walking permit is being requested. A list of courses accepted by the superintendent will be posted on the park's Web site.

○ The NPS intends to recover the costs of administering the special use permit program under 54 U.S.C. 103104. In order to obtain a special use permit to walk more than three dogs at one time, the proposed rule would require dog walkers to pay a permit fee to allow the NPS to recover these costs.

Uncontrolled and Unattended Dogs

To protect park resources, reduce visitor conflict, enhance public safety, and aid enforcement and monitoring, the proposed rule would define the terms “uncontrolled dog” and “unattended dog.” The definition of “uncontrolled dog” includes behavior by a dog that results in uninvited or unwanted physical contact with a person or another animal. To prevent unwanted and/or unsolicited contact from a dog, dog walkers are advised to ask another person (with or without a dog) whether it is acceptable for their dog to approach the other person or that person's dog. Contact by a dog that results in uninvited or unwanted physical contact would violate the proposed rule. Short of actual physical contact, the definition of uncontrolled dog also includes threatening behavior by dogs towards people or other animals such as snarling, growling, snapping, chasing, charging, repeated barking at, howling, or uninvited taking or attempting to take food. Such behavior would violate the proposed rule.

The rule would prohibit dogs from being left unattended outside, tied or untied. It would also prohibit dogs from being left unattended in a parked vehicle where they could create a nuisance, disturb the peace and tranquility of the park, or disturb wildlife; or where they could reasonably be expected to experience suffering or distress (e.g., exposure to high temperatures, direct sunlight, or inadequate ventilation).

Proof of Rabies Vaccination and Owner Identification

For the protection of the public and other pets, all dogs within GGNRA must have a current rabies vaccination. All three counties that encompass GGNRA lands (as well as neighboring Alameda County) require dogs to be licensed, require proof of a current rabies vaccination to acquire the license, and issue a proof of license (e.g., tag) that may be fixed to the dog's collar and that enables the identity of the owner to be confirmed. The NPS will accept these and other similarly issued municipal licenses as proof of current rabies vaccination and owner identification. In counties where current rabies documentation is not required, where such “annual” tags are not issued, or where counties are not able to release that information to NPS for purposes of health and safety or law enforcement, a dog walker must produce official documentation of a current rabies vaccination (such as vaccine certificates by providers authorized to administer the vaccine by relevant state or local authorities) upon request.

Monitoring-Based Management Program

As provided by the draft plan/SEIS, all areas open to dog walking, including Voice and Sight-Control Areas, would be subject to a Monitoring-Based Management Program to gauge compliance with NPS regulations and ensure continued protection of park resources, visitors, and staff. This program would include monitoring and recording of noncompliance with the proposed rule, including behavior that meets the definition of an uncontrolled dog or an unattended dog, dog walking in prohibited areas, and off-leash dog walking in areas where leashes are required. The program would also monitor and record dog-related violations of other NPS regulations, such as for hazardous conditions (e.g., aggressive behavior, dog rescues) (36 CFR 2.34(a)(4)), violations of areas closed to the public or to dogs (36 CFR 1.5(f)), protection of threatened or endangered species (36 CFR 2.2(a)(2) and 50 CFR part 17), vegetation (36 CFR 2.1(a)(1)(ii)), wildlife (36 CFR 2.2(a)(2)), and government and third party property (36 CFR 2.31(a)(3)).

If the superintendent determines that the level of compliance with dog-related regulations is approaching an unacceptable level based on issues such as the number or types of violations or dog-related impacts to resources, visitors, park staff, health and safety, or peace and tranquility, or is imposing an undue burden on administrative resources, the superintendent must act to prevent those unacceptable impacts by taking management actions. Examples of primary management actions include increased outreach and education; increased area-focused enforcement of regulations; proposed fine increases; additional fencing, barriers or separations; or special use permit restrictions.

If primary management actions do not sufficiently address the problem, the superintendent would implement secondary management actions. Examples of secondary management actions may include, but are not limited to increased buffer zones, and additional use restrictions (e.g. limiting the number of dogs off-leash at any one time with one dog walker, requiring tags or permits for accessing Voice and Sight Control Areas, or short or long-term, dog walking area closures). The authority to implement primary or secondary management actions is provided in section (11) and would be exercised independent of the superintendent's authority under 36 CFR 1.5 in order to provide the NPS with the needed flexibility to respond to the impacts of dog walking in designated areas and prevent unacceptable impacts or conditions before they occur. Public notice of any action taken under this authority would be given pursuant to one or more of the methods set forth in 36 CFR 1.7(a). Advance public notice would not be required in emergency situations.

Compliance With Other Laws, Executive Orders, and Department Policy

Regulatory Planning and Review (Executive Orders 12866 and 13563)

Executive Order 12866 provides that the Office of Information and Regulatory Affairs (OIRA) in the Office of Management and Budget will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act

This rule will not have a significant economic effect on a substantial number of small entities under the Regulatory Flexibility Act (5 U.S.C. 601 et seq.). This certification is based on information contained in the economic analyses found in the report entitled “Economic Analysis of the Proposed Rule for Dog Management in the Golden Gate National Recreation Area,” that is available online at http://www.nps.gov/goga/getinvolved/plan-dog-mgt-rr.htm.

Small Business Regulatory Enforcement Fairness Act

This rule is not a major rule under 5 U.S.C. 804(2), the Small Business Regulatory Enforcement Fairness Act. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This rule does not impose an unfunded mandate on State, local, or tribal governments or the private sector of more than $100 million per year. The rule does not have a significant or unique effect on state, local or tribal governments or the private sector. It addresses public use of national park lands, and imposes no requirements on other agencies or governments. A statement containing the information required by Unfunded Mandates Reform Act (2 U.S.C. 1531 et seq.) is not required.

Takings (Executive Order 12630)

This rule does not affect a taking of private property or otherwise have takings implications under Executive Order 12630. A takings implication assessment is not required.

Federalism (Executive Order 13132)

Under the criteria in section 1 of Executive Order 13132, this rule does not have sufficient federalism implications to warrant the preparation of a Federalism summary impact statement. This proposed rule only affects use of NPS administered lands and waters. It has no outside effects on other areas. A Federalism summary impact statement is not required.

Civil Justice Reform (Executive Order 12988)

This rule complies with the requirements of Executive Order 12988. This rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and tribal sovereignty. We have evaluated this rule under the Department's consultation policy and under the criteria in Executive Order 13175 and have determined that it has no substantial direct effects on federally recognized Indian tribes and that consultation under the Department's tribal consultation policy is not required. Tribes traditionally associated with GGNRA were consulted, however, in the development of the draft Plan/SEIS.

Paperwork Reduction Act

This rule does not contain any new collections of information that require approval by the Office of Management and Budget (OMB) under the Paperwork Reduction Act. OMB has approved the information collection requirements associated with NPS Special Park Use Permits and has assigned OMB Control Number 1024-0026 (expires 08/31/16). An agency may not conduct or sponsor and a person is not required to respond to a collection of information (e.g., NPS survey) unless it displays a currently valid OMB control number.

National Environmental Policy Act

The preferred alternative from the draft Plan/SEIS, which this rule proposes to implement, constitutes a major Federal action with the potential to significantly affect the quality of the human environment. We have prepared the draft Plan/SEIS in accordance with the National Environmental Policy Act of 1969. Because of their inter-relatedness, the draft Plan/SEIS serves as NEPA compliance for this rule. The public comment period for the draft Plan/SEIS closed on February 18, 2014. The draft Plan/SEIS is available online at http://parkplanning.nps.gov/documentsList.cfm?projectID=11759 by clicking on the link entitled “Draft Dog Management Plan/Supplemental Environmental Impact Statement.” A final Plan/FEIS will be developed after public comments on the proposed rule have been analyzed and considered as appropriate. A final rule will be published after a Record of Decision has been issued on the FEIS.

Effects on the Energy Supply (Executive Order 13211)

This rule is not a significant energy action under the definition in Executive Order 13211. A Statement of Energy Effects is not required.

Clarity of This Rule

We are required by Executive Orders 12866 (section 1(b)(12)) and 12988 (section 3(b)(1)(B)), and 13563 (section 1(a)), and by the Presidential Memorandum of June 1, 1998, to write all rules in plain language. This means that each rule we publish must:

(a) Be logically organized;

(b) Use the active voice to address readers directly;

(c) Use common, everyday words and clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Drafting Information: The primary authors of this regulation are: Russel J. Wilson, Chief, Division of Regulations, Jurisdiction, and Special Park Uses, National Park Service; Jay Calhoun, Regulations Program Specialist, National Park Service; Michael Edwards, Project Manager, Environmental Quality Division, National Park Service; Mike Savidge, Chief, Strategic Planning, Golden Gate National Recreation Area, National Park Service; and Shirwin Smith, former Management Assistant, Golden Gate National Recreation Area, National Park Service.

Table of Updated Trail and Road Names

The following table identifies the updated trail and road names that are different than the names used in the draft/SEIS.

County | Map No. | Trail and road names used in draft/SEIS | Updated trail and road names used in proposed rule
Marin | 5 | Oakwood Valley Road | Oakwood Valley Trail.
Marin | 5 | Oakwood Valley Trail | Oakwood Meadow Trail.
Marin | 5 | Pacheco Fire Road | Pacheco Trail.
Marin | 5 | Orchard Fire Road | Orchard Trail.
Marin | 7 | Smith Road Connector Trail | Smith Trail.
Marin | 8 | Bay Trail | Fort Baker Bay Trail.
Marin | 8 | Center Road | Fort Baker Trail.
San Francisco | 9 | Trail north from Great Meadow | Fort Mason Bay Trail.
San Francisco | 9 | Trail east of Youth Hostel | Black Point Battery Trail.
San Francisco | 9 | Stairs from Great Meadow to Lower Ft. Mason | Fort Mason Stairs.
San Francisco | 9 | Paths around Great Meadow | Great Meadow Paths.
San Francisco | 11 | Presidio Coastal Trail | Coastal Trail.
San Francisco | 11 | Unmarked connector between Battery East Trail and Presidio Promenade | Battery East Spur Trail.
San Francisco | 11 | Andrews Road | Andrews Trail.
San Francisco | 11 | Connector between Battery East Trail and Coastal Trail on the west side of the Golden Gate Bridge toll plaza | Presidio Promenade.
San Francisco | 11 | Presidio Coastal Trail | Coastal Trail.
San Francisco | 11 | Fort Point Promenade | Marine Drive.
San Francisco | 12 | Access Trails to south beach from parking lots. | Access Trails #3, 4, 5 and 6.
San Francisco | 13 | Connector between Coastal Trail and Camino del Mar Trail/Legion of Staircase | Legion of Honor Trail.
San Francisco | 13 | Steps from Legion of Honor parking lot to Coastal Trail | Memorial Stairs.
San Francisco | 13 | Trail from Merrie Way Parking Lot north to Coastal Trail | Merrie Way Trail.
San Francisco | 13 | Trails from Merrie Way Parking Lot west to Coastal Trail | Lands End Staircase, North and South.
San Francisco | 13 | Trail from Merrie Way Parking Lot west to El Camino del Mar | Fort Miley Trail.
San Francisco | 14 | Trail through Sutro Heights | Sutro Heights Loop Trail.
San Francisco | 14 | 48th to Sutro Loop Trail | Sutro Heights Trail.
San Francisco | 14 | Balboa to Sutro Loop Trail | La Playa Trail.
San Francisco | 16 | Sunset Trail from north end of Fort Funston to main parking lot | Coastal Trail.
San Francisco | 16 | Battery Davis Road on east side of the battery | Battery Davis Trail.
San Francisco | 16 | Eastern connector from Battery Davis Trail to Funston Beach Trail (North) | Funston Trail.
San Mateo | 18 | Milagra Ridge Fire Road | Milagra Ridge Road.
San Mateo | 18 | Trail to bunker | Milagra Battery Trail.
San Mateo | 19 | Sweeney Ridge Trail from Shelldance Nursery to the Notch Trail | Mori Ridge Trail.
San Mateo | 19 | Farallon View Trail from Baquiano Trail to western Cattle Hill boundary | Cattle Hill Trail.
San Mateo | 20 | Connector trail north of old San Pedro Mountain Road | Farallone Trail.
San Mateo | 20 | Connector trail north of old San Pedro Mountain Road | Corona Pedro Trail.
San Mateo | 20 | Connector trail south of old San Pedro Mountain Road | Le Conte Trail.
San Mateo | 20 | Vicente Ridge Trail | San Vicente Trail.
San Mateo | 20 | Connector to Vicente Ridge Trail | Ranchette Trail.
San Mateo | 20 | Denniston Ridge Trail | French Trail.
San Mateo | 20 | Memorial Loop | Flat Top Trail and Clipper Ridge Trail (lower section).
San Mateo | 20 | Connector from Memorial Loop to junction with Denniston Ridge Trail | Clipper Ridge Trail.
San Mateo | 20 | Connector from community to Clipper Ridge Trail | Almeria and San Carlos Trails.

List of Subjects in 36 CFR Part 7

National Parks, Reporting and recordkeeping requirements.

In consideration of the foregoing, the National Park Service proposes to amend 36 CFR part 7 as follows:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. In § 7.97, revise paragraph (d) to read as follows:

§ 7.97 Golden Gate National Recreation Area.

* * * * *

(d)(1) What is the scope of this regulation? (i) The regulations contained in this paragraph (d) apply to persons with dogs at the following locations within Golden Gate National Recreation Area:

In Marin County: | Stinson Beach, Muir Beach, Homestead Valley, Oakwood Valley, Alta Trail, Marin Headlands/Rodeo Beach and vicinity, Marin Headlands/Rodeo Valley, and Fort Baker.
In San Francisco County: | Fort Mason, Crissy Field, Fort Point National Historic Site, Baker Beach, Lands End, Fort Miley, Sutro Heights Park, Ocean Beach, and Fort Funston.
In San Mateo County: | Mori Point, Milagra Ridge, Sweeney Ridge, Cattle Hill (if NPS assumes management responsibility for this area), and Rancho Corral de Tierra.

(ii) To the extent not modified or relaxed by the regulations contained in paragraph (d) of this section, the regulations in section 2.15 of this chapter govern pets, including dog walking, within Golden Gate National Recreation Area. Paragraph (d) of this section does not apply to service dogs accompanying persons with a disability as authorized under applicable National Park Service regulations.

(2) What terms do I need to know? The following definitions apply to paragraph (d) of this section only:

Leash means a chain, rope, cord, or strap not longer than 6 feet in length with a clip or snap for rapid attachment to a choke chain, collar, or harness, all the parts of which are of sufficient strength to hold the weight of the dog and are suitable for walking the dog and controlling it.

Unattended dog means a dog left without a guardian in sight, tied or untied outside; or left in a parked vehicle, where it creates a nuisance, disturbs the peace and tranquility of the park, or disturbs wildlife; or left where the dog could reasonably be expected to experience suffering or distress due to, for example, exposure to high temperatures, direct sunlight, or inadequate ventilation.

Uncontrolled dog means a dog, on or off-leash, that exhibits any behavior that threatens, disturbs, harasses, or demonstrates aggression toward another person, dog, or domesticated animal or wildlife in a manner that a reasonable person would find threatening, disturbing, harassing, or aggressive. Such behaviors include snarling, growling, repeated barking at, howling, chasing, charging, snapping at, or uninvited attempting to take or taking food from a person; demonstrating uninvited or unwanted physical contact with a person or another animal; annoying, pursuing, hunting, harming, wounding, attacking, capturing, or killing wildlife or a domesticated animal; digging into ground, soil or vegetation; or failing to be under voice and sight control in a Voice and Sight Control Area.

Voice and Sight Control Area means an area designated in paragraph (d) of this section and identified on maps available at park visitor centers and on the park Web site where dogs may be walked off-leash when under voice and sight control.

Voice and sight control means a dog that is within direct eyesight of the dog walker and that the dog walker is able to both immediately recall directly to his or her side, without regard to circumstances or distractions, and attach a leash to the dog's collar. The dog walker must demonstrate this ability when requested to do so by an authorized person.

(3) Where may I walk or take a dog at the locations identified in this paragraph (d)? You may walk or take a dog at the locations identified in paragraph (d)(1) of this section only in those areas specified below and subject to the restrictions as noted in this paragraph (d).

(i) You may walk a dog on-leash in parking lots, on sidewalks, on paved public roads, and in all areas where off-leash use is authorized.

(ii) You may walk one to three dogs per person at one time on-leash in the areas designated in the following table. The maps referenced in the table will be available at park visitor centers and on the park Web site.

Table 1 to § 7.97—On-Leash Dog Walking: One to Three Dogs
(A) Stinson Beach (see map #2)
(1) Designated connecting trail from a signed trailhead between the dunes on the western side of the northern parking lot to the county-owned Upton Beach.
(2) North and Central picnic areas.
(B) Muir Beach (see map #3)
(1) Trail parallel to the access road from Pacific Way Bridge through the Muir Beach parking lot.
(2) Muir Beach Trail.
(3) The sand beach and surf area outside the fenced or signed buffer areas. When there is a surface water connection between the ocean and the lagoon, dogs are not allowed into the surface waters connecting the lagoon and the ocean.
(C) Homestead Valley (see map #4)
(1) Homestead Trail from Four Corners to two community connecting trails beyond the GGNRA boundary, the Eagle Trail and an extension of the Homestead Trail.
(2) Homestead Summit Trail from Homestead Fire Road to junction with the Homestead Trail at Four Corners.
(3) Homestead Fire Road from Lattie Lane to Panoramic Highway.
(D) Oakwood Valley (see map #5)
(1) That section of the Rhubarb Trail from the Tamalpais Community Service District's property access at the park boundary, east to Tennessee Valley Road.
(2) Oakwood Valley Trail (formerly Oakwood Valley Fire Road) to the junction with the Alta Trail.
(E) Alta Trail (see map #5)
(1) Alta Trail from the entrance at Donahue Street to the junction with the Morning Sun Trail.
(2) Orchard and Pacheco Trails from the park boundary to the Alta Trail.
(F) Marin Headlands/Rodeo Beach and Vicinity (see map #6)
(1) Coastal Trail from the Fort Cronkhite parking area to its intersection with Old Bunker Road, and continuing east on the Old Bunker Road south to the Fort Cronkhite Trail and back along the Lagoon Trail to the Fort Cronkhite parking lot.
(2) Beach access steps at the north end of the beach. When there is a surface water connection between the ocean and the lagoon, dogs are not allowed on the beach access steps or in the surface water connecting the ocean and the lagoon.
(3) Lagoon Trail along Mitchell Road to and over the pedestrian bridge to the beach.
(4) Batteries Loop Trail (from the Battery Alexander parking lot trailhead).
(G) Marin Headlands/Rodeo Valley (see map #7)
(1) Rodeo Avenue Trail and Morning Sun Trail connecting to and including the Alta Trail.
(2) Rodeo Valley Trail from the trailhead at the intersection of Bunker and McCullough Roads to the intersection with the Bobcat Trail.
(3) Bobcat Trail between Rodeo Valley Trail and Miwok Trail.
(4) Miwok Trail from Bobcat Trail to Lagoon Trail.
(5) Smith Trail from parking lot to Rodeo Valley Trail.
(H) Fort Baker (see map #8)
(1) Parade Ground.
(2) The length of the Fort Baker Bay Trail from the northern parking lot off Conzelman Road at the northwest end of the Golden Gate Bridge down along Sommerville Road and up to section of same trail along East Road to the park boundary.
(3) Fort Baker Trail from southern intersection with Fort Baker Bay Trail at Sommerville Road to the northern intersection with the Fort Baker Bay Trail at East Road.
(4) Connecting trail from northeastern section of main parking lot (south of Bay Area Discovery Museum) to Fort Baker Bay Trail, and connecting paths from western side of same parking lot to Center Road.
(I) Fort Mason (see map #9)
(1) The multi-use Fort Mason Bay Trail (McDowell Avenue) from the north end of Van Ness Avenue at the Municipal Pier to Laguna Street.
(2) The Black Point Battery Trail from Van Ness Avenue through the lower gun platform level of Black Point Battery to the Fort Mason Bay Trail.
(3) Great Meadow paths and grass areas south of the Fort Mason Bay Trail between the western side of Building 201 (GGNRA Park Headquarters) and Laguna Street.
(4) The triangular grass area between Shafter Court and the park boundary along Bay Street.
(5) Grass area between MacArthur and Van Ness Avenues south of Building 9. Grass areas between MacArthur Avenue and the Fort Mason Quad residences.
(6) Grass area between Building 101 and entrance road to Bay Street parking lot.
(7) Grass area between Franklin Street exit to Bay Street and entrance road to Shafter Court.
(J) Crissy Field (see map #10)
(1) Crissy Field Promenade from the eastern park boundary to Marine Drive.
(2) All access paths connecting the Promenade to Central Beach.
(3) All flat grass and composite areas of East Crissy Field between the Promenade Cut-off Trail and the southern section of the East Beach Picnic Trail, in the west, to the eastern park boundary, bounded in the north by the Promenade and by the Fort Mason Multi-Use Path in the south, including the East Beach picnic area.
(4) Crissy Airfield.
(5) The developed paths and hardened areas (not stairs) outside the National Marine Sanctuary's Gulf of the Farallones buildings and outside the Crissy Center facilities.
(6) The Mason Street Multi-Use path.
(7) Crissy Field Warming Hut picnic area.
(K) Fort Point National Historic Site (see map #11)
(1) Northern shoulder of Marine Drive west along the multi-use access road to the fort.
(2) Battery East Trail from Marine Drive continuing west to the intersection with the Presidio Promenade.
(3) The Andrews Trail connecting to and including the full length of the Presidio Promenade from Long Avenue to the Coastal Trail.
(4) Coastal Trail on the western side of the southern Golden Gate Bridge approach going south to the Merchant Road parking lot and Baker Beach.
(L) Baker Beach (see map #12)
(1) Coastal Trail from the connection with the Presidio Promenade at the south side of the Golden Gate Bridge to the Baker Beach parking lot.
(2) That section of beach extending south from access Trail #3 to the signed, restricted buffer area at Lobos Creek, and the shallow, tidal waters immediately off-shore of the on-leash area.
(3) Beach access Trail #3 thru Trail #6 and the access path from the 25th Avenue gate to the beach.
(4) All picnic areas except the south picnic area, a designated dog-free area.
(M) Lands End (see map #13)
(1) Coastal Trail from the eastern park boundary near 32nd Avenue to the Lands End parking lot.
(2) El Camino del Mar Trail from the park boundary to the Memorial parking lot.
(3) Legion of Honor Trail.
(4) Memorial Stairs.
(5) Merrie Way Trail.
(6) The north and south Lands End Staircase Trails.
(N) Fort Miley (see map #13)
(1) The East Fort Miley Trail from Clement Street to the NPS boundary at the Legion of Honor (just beyond its intersection with the Veteran's Trail).
(O) Sutro Heights Park (see map #14)
(1) The access trail from the Sutro parking lot.
(2) Sutro Heights Loop Trail and adjacent grass lawn areas within this trail loop.
(3) Sutro Heights Trail and adjacent grass lawn areas between it and the Sutro Heights Loop Trail.
(4) La Playa Trail.
(5) The parapet.
(P) Ocean Beach (see map #15)
(1) Coastal Trail south from the Cliff House along the sidewalk continuing on that section of trail east of the dunes paralleling the Great Highway to Sloat Boulevard.
(2) Beach access stairs between Stairwell #1, the northernmost stairwell closest to the Cliff House, and Stairwell #21.
(Q) Fort Funston (see map #16)
(1) The Coastal Trail from the Great Highway south to the Coastal Trail Sand Ladder connecting to Funston Beach.
(2) The Battery Davis Trail (East).
(3) The John Muir Trail.
(4) That trail along northern edge of main parking lot between the Coastal and Chip Trails.
(5) That segment of the Sunset Trail from the main parking lot south to the southern parking lot below the main entrance.
(R) Mori Point (see map #17)
(1) Old Mori Trail.
(2) Pollywog Trail.
(3) Coastal Trail.
(4) The southeastern section of Sharp Park beach within the NPS boundary.
(S) Milagra Ridge (see map #18)
(1) Milagra Ridge Road within the park boundary from Sharp Park Road entrance west to the Milagra Battery Trail.
(2) Milagra Battery Trail from Battery #244 to the parking lot at the west boundary of the site (Connemara).
(T) Sweeney Ridge (see map #19)
(1) Sneath Lane from the parking area west up to the intersection with the Sweeney Ridge Trail.
(2) Sweeney Ridge Trail from the Portola Discovery site to the former Nike Missile site.
(U) Cattle Hill (see map #19) If the National Park Service acquires management responsibility for Cattle Hill, after giving public notice in accordance with 36 CFR 1.7, dog walking would be authorized on:.
(1) The Baquiano Trail from Fassler Avenue up to Cattle Hill Trail.
(2) The Cattle Hill Trail.
(V) Rancho Corral de Tierra (see map #20)
Montara area:
(1) Le Conte Trail.
(2) Corona Pedro Trail.
(3) Old San Pedro Mountain Road.
(4) Farallon Trail from the park boundary in the west continuing east to its intersection with the Corona Pedro Trail.
Moss Beach area:
(5) San Vicente Trail.
(6) Ranchette Trail.
El Granada area:
(7) French Trail between the San Carlos Trail and its intersection with the Clipper Ridge Trail.
(8) Flat Top Trail.
(9) Clipper Ridge Trail.
(10) Almeria Trail.
(11) San Carlos Trail.

(iii) You may walk four to six dogs per person at one time on-leash only pursuant to a permit issued by the NPS in areas designated in the following table. The maps referenced in the table will be available at park visitor centers and on the park Web site.

Table 2 to § 7.97— On-Leash Dog Walking: Four to Six Dogs
(A) Alta Trail (see map #5). Alta Trail from the entrance at Donahue Street south to the intersection with the Orchard Trail.
(B) Marin Headlands/Rodeo Beach & Vicinity (see map #6)
(1) Beach access steps at the north end of the beach. When there is a surface water connection between the ocean and the lagoon, dogs are not allowed on the beach access steps or in the surface water connecting the ocean and the lagoon.
(2) Lagoon Trail along Mitchell Road to and over the pedestrian bridge to the beach.
(C) Fort Baker (see map #8)
(1) Parade Ground.
(2) The length of the Fort Baker Bay Trail from the northern parking lot off Conzelman Road at the northwest end of the Golden Gate Bridge down along Sommerville Road and up to section of same trail along East Road to the park boundary.
(3) Fort Baker Trail from southern intersection with Fort Baker Bay Trail at Sommerville Road to the northern intersection with the Fort Baker Bay Trail at East Road.
(4) Connecting trail from northeastern section of main parking lot (south of Bay Area Discovery Museum) to Fort Baker Bay Trail, and connecting paths from western side of same parking lot to Center Road.
(D) Fort Mason (see map #9)
(1) The multi-use Fort Mason Bay Trail (McDowell Avenue) from the north end of Van Ness Avenue at the Municipal Pier to Laguna Street.
(2) The Black Point Battery Trail from Van Ness Avenue through the lower gun platform level of Black Point Battery to the Fort Mason Bay Trail.
(3) Great Meadow paths south of the Fort Mason Bay Trail between the western side of Building 201 (GGNRA Park Headquarters) and Laguna Street.
(4) The triangular grass area between Shafter Court and the park boundary along Bay Street.
(5) Grass area between MacArthur and Van Ness Avenues south of Building 9. Grass areas between MacArthur Avenue and the Fort Mason Quad residences.
(6) Grass area between Building 101 and entrance road to Bay Street parking lot.
(7) Grass area between Franklin Street exit to Bay Street and entrance road to Shafter Court.
(E) Crissy Field (see map #10)
(1) Crissy Airfield.
(2) Crissy Promenade: The portion of the trail leading from the western-most side of the East Beach parking lot to the eastern-most access path to Central Beach; and those short segments of the Crissy Promenade that provide a direct crossing and connection between the Crissy Airfield paths and the paths leading to the western portion of Central Beach, designated for Direct Beach Access.
(3) The Mason Street Multi-Use path.
(F) Baker Beach (see map #12)
(1) Beach access Trail #3 thru Trail #6 and the access path from the 25th Avenue gate to the beach.
(2) That section of beach extending south from access Trail # 3 to the signed, restricted buffer area at Lobos Creek, and the shallow, tidal waters immediately off-shore of the on-leash area.
(G) Fort Funston (see map #16)
(1) The Coastal Trail between the Funston Beach Trail (North) to the Coastal Trail Sand Ladder on Funston Beach.
(2) The Battery Davis Trail (East).
(3) The John Muir Trail.
(4) That trail along northern edge of main parking lot between the Coastal and Chip Trails
(5) That segment of the Sunset Trail from the main parking lot south to the southern parking lot below the main entrance.

(iv) You may walk one to three dogs per person at one time on-leash or under voice and sight control in the Voice and Sight Control Areas designated in the following table. The maps referenced in the table will be available at park visitor centers and on the park Web site.

Table 3 to § 7.97—Voice and Sight Control or On-Leash Dog Walking: One to Three Dogs
(A) Marin Headlands/Rodeo Beach and Vicinity (see map #6). On the beach west and south of the signed or fenced buffer areas from the northern terminus of the beach south to the “sea stacks” which divide Rodeo Beach from South Rodeo Beach, including the adjacent waters immediately off-shore. When there is a surface water connection between the ocean and the lagoon, dogs are not allowed on the beach access steps or in the surface water connecting the ocean and the lagoon.
(B) Fort Mason (see map #9). The southwest section of upper Fort Mason bounded on the northwest by the diagonal path connecting the Fort Mason Bay Trail to the Laguna Street path and continuing southward to Bay Street and then eastward to the parking lot and north to the hedges bordering the path around the Great Meadow, continuing northwest back to the Fort Mason Bay Trail.
(C) Crissy Field (Central Beach) (see map #10). Central Beach from the fenced, eastern boundary of the western foredunes to the fenced buffer zone on the west side of the tidal marsh outlet to the bay, including the adjacent waters immediately off-shore, but not including the dunes, on-leash paths to the beach, or the sand spit and waters north of the tidal marsh outlet.
(D) Crissy Field (Crissy Airfield) (see map #10). Central area of Crissy Airfield, bounded by the middle path on its western side and a newly-proposed path (aligned in the north from the second-most western access to Central beach to the Mason Street multi-use path in the south) on its eastern side and by on-leash buffers along its northern and southern boundaries.
(E) Ocean Beach (see map #15). The northern terminus of the beach to Stairwell 21, including the adjacent waters immediately off-shore.
(F) Fort Funston (Upper Funston) (see map #16)
(1) The area northeast of the Funston Trail, bordered by a signed northern border paralleling and aligned with the Funston Beach (North) Trail, east to the bottom of the embankment in the northeast, and the tree line in the east and south.
(2) The Funston Trail.
(3) The area east of, but not including, the Coastal Trail, north of the main parking lot, encompassing the Chip Trail and its eastern embankment, to the intersection with the on-leash John Muir Trail.
(4) The Battery Davis Trail (West).
(G) Fort Funston (Funston Beach) (see map #16)
(1) Funston Beach extending south from the intersection with Funston Beach Trail (North) to the intersection with, but not including, the Coastal Trail Sand Ladder on the beach; includes the adjacent waters immediately off-shore.
(2) Funston Beach Trail (North).

(v) You may walk four to six dogs per person at one time on-leash or under voice and sight control only pursuant to a permit issued by the NPS in the Voice and Sight Control Areas designated in the following table. The maps referenced in the table will be available at park visitor centers and on the park Web site.

Table 4 to § 7.97—Voice and Sight Control or On-Leash Dog Walking: Four to Six Dogs
(A) Marin Headlands/Rodeo Beach & Vicinity (see map #6). On the beach west and south of the signed or fenced buffer areas from the northern terminus of the beach south to the “sea stacks” which divide Rodeo Beach from South Rodeo Beach, including the adjacent waters immediately off-shore. When there is a surface water connection between the ocean and the lagoon, dogs are not allowed on the beach access steps or in the surface water connecting the ocean and the lagoon.
(B) Fort Mason (see map #9). The southwest section of upper Fort Mason bounded on the northwest by the diagonal path connecting the Fort Mason Bay Trail to the Laguna Street path and continuing southward to Bay Street and then eastward to the parking lot and north to the hedges bordering the path around the Great Meadow, continuing northwest back to the Fort Mason Bay Trail.
(C) Crissy Field (Central Beach) (see map #10). Central Beach from the fenced, eastern boundary of the western foredunes to the fenced buffer zone on the west side of the tidal marsh outlet to the bay, including the adjacent waters immediately off-shore, but not including the dunes, on-leash paths to the beach, or the sand spit and waters north of the tidal marsh outlet.
(D) Crissy Field (Crissy Airfield) (see map #10). Central area of Crissy Airfield, bounded by the middle path on its western side and a newly-proposed (aligned in the north from the second-most western access to Central beach to the Mason Street multi-use path in the south) path on its eastern side and by on-leash buffers along its northern and southern boundaries.
(E) Ocean Beach (see map #15). The northern terminus of the beach to Stairwell 21, including the adjacent waters immediately off-shore.
(F) Fort Funston (Upper Funston) (see map #16)
(1) The area northeast of the Funston Trail, bordered by a signed northern border paralleling and aligned with the Funston Beach (North) Trail, east to the bottom of the embankment in the northeast, and the tree line in the east and south.
(2) The Funston Trail.
(3) The area east of, but not including, the Coastal Trail, north of the main parking lot, encompassing the Chip Trail and its eastern embankment, to the intersection with the on-leash John Muir Trail.
(4) The Battery Davis Trail (West).
(G) Fort Funston (Funston Beach) (see map #16)
(1) Funston Beach extending south from the intersection with Funston Beach Trail (North) to the intersection with, but not including, the Coastal Trail Sand Ladder on the beach; includes the adjacent waters immediately off-shore.
(2) Funston Beach Trail (North).

(vi) You may not walk a dog on- or off-leash in campgrounds, public buildings, designated swimming beaches, sensitive habitat areas, and any other areas not specifically opened to dog walking in this paragraph (d).

(vii) If the park adds new trails to the park's trail system in any of the 22 locations covered by this paragraph (d), the superintendent may designate such trails as open to on-leash dog walking. If the state and local entities with land management authority for Sharp Park Beach decide to change dog walking uses at Sharp Park Beach, the superintendent may designate the small, adjacent southeast corner (0.2 acres) of the beach that is administered by the NPS for the same use. Notice of this change will be provided by one or more of the methods in section 1.7 of this chapter.

(viii) Areas open to dog walking by this paragraph (d)will be identified on maps available at park visitor centers and on the park Web site.

(4) When must I have a leash? A leash must be attached to each dog and simultaneously held by the dog walker, unless the dog is present in a Voice and Sight Control Area or the dog is fully confined in a vehicle, cage or crate. In a Voice and Sight Control Area, a leash for each dog must be carried by the dog walker but does not have to be attached to the dog, provided that the dog is under voice and sight control.

(5) How many dogs may I walk at one time without a permit? You may walk up to three dogs at one time per person within areas designated as open to dog walking in paragraph (d) of this section in accordance with the leash requirements that apply to each area.

(6) May I leave a dog unattended? No. An unattended dog is prohibited.

(7) May I walk more than three dogs at one time? (i) Walking four to six dogs per person at one time is prohibited unless you obtain a dog walking permit from the NPS and remain in areas designated for that use in paragraph (d)(3) of this section during the times specified in paragraph (d)(9) below.

(ii) Walking more than six dogs at one time is prohibited.

(iii) Persons may not enter the park with more than six dogs at one time. In addition, dog walkers entering the park with four or more dogs may not circumvent the permit requirement by leaving dogs unattended or in a parked vehicle while they walk fewer than four dogs at one time.

(8) How do I obtain an NPS dog walking permit? (i) Annual permits may be obtained by applying in person at the Golden Gate National Recreation Area, Office of Special Uses, Fort Mason, San Francisco, CA. 94123, or on the park Web site. All permits will require proof of liability insurance and proof of successfully completing a dog-handling training course that is accepted by the superintendent. The NPS charges a fee to recover the costs of administering the special use permits. Permit applicants must pay the fee charged by the NPS in order to obtain a special use permit.

(ii) Violation of a term or condition of a permit issued in accordance with this section is prohibited. In addition, the superintendent may temporarily or permanently revoke a person's dog walking permit, or deny a person's request for a dog walking permit, based upon documented violation(s) of NPS regulations or failure to comply with the terms and conditions of a dog walking permit.

(9) At what times will permitted dog walking of four to six dogs be allowed? Permitted dog walking of four to six dogs is only authorized Monday through Friday between 8 a.m. and 5 p.m. The times for permitted dog walking of four to six dogs may be adjusted by the superintendent following public notice consistent with one of the methods listed in § 1.7(a) of this chapter.

(10) What other restrictions apply in areas open to dog walking under this paragraph (d)? (i) All dogs must have identification tags affixed to their collar that confirm proof of current rabies vaccinations and their owner's name, address, and phone number; except as provided for in paragraph (d)(10)(ii) of this section.

(ii) In counties or municipalities where an annual dog license is issued that requires proof of a current rabies vaccination, a valid, current county or municipal license tag suffices for such proof. In counties or municipalities where such current rabies documentation is not required, where such “annual” tags are not issued or where counties or municipalities are not able to release that information to NPS for purposes of health and safety or law enforcement, a dog walker must produce official documentation meeting the requirements in paragraph (d)(10)(i) of this section when asked by any authorized person.

(iii) A dog walker must immediately pick up a dog's excrement and place it in a designated garbage container or remove it from the park. Excrement may not be left on the ground, even if bagged, and may not be deposited in compost or recycling receptacles, or left on the ground in the park for collection later.

(iv) An uncontrolled dog is prohibited. A dog walker must be in control of his or her dog at all times regardless of circumstances or distractions. An authorized person may instruct a dog walker to remove an uncontrolled dog from the park.

(v) A dog in heat is prohibited.

(vi) A dog under four months old must be leashed, crated or confined in a carrier at all times, including in Voice and Sight Control Areas.

(vii) Dogs are not allowed to breed in the park.

(11) May the superintendent impose additional closures or restrictions in areas open to dog walking? Yes. Areas or portions thereof that are open to on-leash or off-leash dog walking may be closed or subject to additional restrictions by the superintendent, on a temporary or permanent basis, for the protection or restoration of park resources, special events, implementation of management responsibilities, health and safety, infrastructure projects, visitor use conflicts, or other factors within the discretion of the superintendent. Except in emergency situations, the NPS will provide public notice of such changes under one or more of the methods listed in § 1.7 of this chapter before any such changes are implemented.

Dated: January 28, 2016.
Michael Bean,
Principal Deputy Assistant Secretary for Fish and Wildlife and Parks.

[FR Doc. 2016-03731 Filed 2-23-16; 8:45 am]

BILLING CODE 4310-EJ-P